ENVIRONMENTAL PROTECTION AGENCY

[OPP-2003-0342; FRL-7331-4]

Pesticide Program Dialogue Committee and PPDC Registration Review Work Group; Notice of Public Meetings

AGENCY: Environmental Protection Agency (EPA).

ACTION: Notice.

SUMMARY: EPA's Pesticide Program Dialogue Committee (PPDC) will hold a public meeting on October 29 and 30, 2003. An agenda is being developed and will be posted on EPA's website. Agenda topics will include a report from the PPDC's Registration Review Work Group; endangered species; non-governmental stewardship activities; pesticide budget/fees and output efficiencies; certification and training; and follow-up to issues discussed at the April 2003 PPDC meeting. In addition, the PPDC Registration Review Work Group will hold two separate public meetings on the following dates: October 17 and October 28, 2003. Agendas for the PPDC Registration Review Work Group meetings will also be posted on EPA's website.

DATES: The PPDC meeting will be held on Wednesday, October 29, 2003, from 9 a.m. to 5:30 p.m., and Thursday, October 30, 2003, from 9 a.m. to 1 p.m.

The PPDC Registration Review Work Group will hold a public meeting on Friday, October 17, 2003, from 8:30 a.m. to 5 p.m., and on Tuesday, October 28, 2003, from 9 a.m. to 5 p.m.

ADDRESSES: The PPDC meeting will be held at the National Rural Electric Cooperative Association (NRECA) Conference Center, 4301 Wilson Boulevard, Arlington, VA. The telephone number to the NRECA Conference Center is (703) 907-5500. The NRECA Conference Center is located adjacent to the Ballston Metro Station and about a 15 minute taxi ride from Ronald Reagan Washington National Airport.

The PPDC Registration Review Work Group meeting on October 17, 2003, will be held at EPA's Offices at 1921 Jefferson Davis Highway, Crystal Mall #2, Room 1110 (the Fishbowl), Arlington, VA. The PPDC Registration Review Work Group meeting on October 28, 2003, will be held at the Hyatt Regency Crystal City, 2799 Jefferson Davis Highway, Arlington, VA. The telephone number to the Hyatt Regency Crystal City is (703) 413-6873.

FOR FURTHER INFORMATION CONTACT: Margie Fehrenbach, Office of Pesticide Programs, Mail code 7501C, Environmental Protection Agency, 1200 Pennsylvania Avenue, NW., Washington, DC 20460; telephone number: 703-308-4775; fax number: 703-308-4776; e-mail address: Fehrenbach.Margie@epa.gov.

SUPPLEMENTARY INFORMATION:

I. General Information

A. Does this Action Apply to Me?

This action is directed to the public in general; however, persons may be interested who work in agricultural settings or persons who are concerned about implementation of the Federal Insecticide, Fungicide, and Rodenticide Act (FIFRA); the Federal Food, Drug, and Cosmetic Act (FFDCA); and the amendments to both of these major pesticide laws by the Food Quality Protection Act (FQPA) of 1996. Since other entities may also be interested, the Agency has not attempted to describe all the specific entities that may be affected by this action. If you have any questions regarding the applicability of this action to a particular entity, consult the person listed under FOR FURTHER INFORMATION CONTACT. Potentially affected entities may include but are not limited to: Agricultural workers and farmers; pesticide industry and trade associations; environmental, consumer and farmworker groups; pesticide users and growers; pest consultants; State, local and Tribal governments; academia; public health organizations; food processors; and the public. If you have any questions regarding the applicability of this action to a particular entity, consult the person listed under FOR FURTHER INFORMATION CONTACT.

B. How Can I Get Copies of this Document and Other Related Information?

1. Docket. EPA has established an official public docket for this action under docket identification (ID) number OPP-2003-0342. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An agenda for the PPDC meeting is being developed and will be posted on EPA's website at www.epa.gov/pesticides/ppdc. Agendas for the PPDC Registration Review Work Group meetings will also be posted on EPA's website at www.epa.gov/pesticides/ppdc.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Office of Pesticide Programs is entrusted with the responsibility of ensuring the safety of the American food supply, the protection and education of those who apply or are exposed to pesticides occupationally or through use of products from unreasonable risk, and general protection of the environment and special ecosystems from potential risks posed by pesticides.

PPDC was established under the Federal Advisory Committee Act (FACA), Public Law 92-463 in September 1995, for a 2-year term and renewed every 2 years since that time. EPA is seeking to renew the current PPDC Charter, which expires in November 2003, for another 2-year term. PPDC provides advice and recommendations to the Office of Pesticide Programs on a broad range of pesticide regulatory, policy and program implementation issues that are associated with evaluating and reducing risks from use of pesticides. The following sectors are represented on the PPDC: Pesticide industry and trade associations; environmental/public interest and consumer groups; farm worker organizations; pesticide user, grower, and commodity groups; Federal and State/local/Tribal governments; the general public; academia; and public health organizations.

Copies of the PPDC Charter are filed with appropriate committees of Congress and the Library of Congress and are available upon request.

List of Subjects

Environmental protection, Agricultural workers, Agriculture, Chemicals, Foods, Pesticides, Pests, Public health, Risk assessment, Tolerance reassessment.

Dated: October 9, 2003.
James Jones,
Director, Office of Pesticide Programs.

[FR Doc. 03-25984 Filed 10-9-03; 10:10 am]

BILLING CODE 6560-50-S